DEPARTMENT OF HOMELAND SECURITY

Transportation Security Administration

[Docket No. TSA-2014-0001]

Intent To Request Renewal From OMB of One Current Public Collection of Information: TSA Pre✓® Application Program

AGENCY: Transportation Security Administration, DHS.

ACTION: 60-day notice.

SUMMARY: The Transportation Security Administration (TSA) invites public comment on one currently approved Information Collection Request (ICR), Office of Management and Budget (OMB) control number 1652-0059, abstracted below, that we will submit to OMB for renewal in compliance with the Paperwork Reduction Act (PRA). The ICR describes the nature of the information collection and its expected burden. The collection involves the voluntary submission of biographic and biometric information that will be used for identity verification and to conduct a security threat assessment which includes vetting of an individual's voluntarily submitted information against law enforcement, immigration, and intelligence databases to determine if the person poses a low risk to transportation or national security and is eligible for expedited screening through TSA Pre✓® lanes at airports. This notice also provides initial information regarding TSA plans to expand opportunities for enrollment into the TSA Pre✓® Application Program by using additional contractors that will be permitted to market, enroll, and pre-screen individuals for TSA Pre✓® Application Program eligibility. Under the proposed expansion, selected contractors will collect biographic and biometric information from the applicant, and perform an initial prescreening of applicants using processes approved by TSA. Those applicants who meet the prescreening standards will be forwarded by the contractors to TSA, which shall perform a security threat assessment and make a final determination of the applicants' eligibility for the TSA Pre✓® Application Program.

DATES: Send your comments by March 9, 2015.

ADDRESSES: Comments may be emailed to TSAPRA@tsa.dhs.gov or delivered to the TSA PRA Officer, Office of Information Technology (OIT), TSA-11, Transportation Security Administration, 601 South 12th Street, Arlington, VA 20598-6011.

FOR FURTHER INFORMATION CONTACT: Christina A. Walsh at the above address, or by telephone (571) 227-2062.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

OMB Control Number 1652-0059; TSA Pre✓®Application Program. Under the TSA Pre✓® Application Program, individuals may submit biographic and biometric information directly to TSA, which in turn uses the information to conduct a security threat assessment (STA) of law enforcement, immigration, and intelligence databases, including a criminal history check. The results are used by TSA to decide if an individual poses a low risk to transportation or national security. Approved applicants are issued a Known Traveler Number (KTN) that may be used when making travel reservations. Airline passengers who submit their KTN when making airline reservations are eligible for expedited screening on flights originating from U.S. airports with TSA Pre✓® lanes.¹ TSA uses the traveler's KTN and other information during passenger prescreening to verify that the individual traveling matches the information on TSA's list of known travellers and to confirm TSA Pre✓® expedited screening eligibility.

¹ Passengers who are eligible for expedited screening through a dedicated TSA Pre✓® ™ lane typically will receive more limited physical screening, e.g., will be able to leave on their shoes, light outerwear, and belt, to keep their laptop in its case, and to keep their 3-1-1 compliant liquids/gels bag in a carry-on. For airports with TSA Pre✓® ™ lanes, see http://www.tsa.gov/tsa-precheck/tsa-precheck-participating-airports.

TSA plans to expand enrollment options for the TSA Pre✓® Application Program by using additional contractor options or capabilities to market, enroll and pre-screen applicants.² Approved contractors will provide secure enrollment options to collect biographic and biometric (e.g., fingerprints, iris scans, and/or photo) information, to validate identity, to facilitate collection citizenship/immigration information, and to perform a criminal history records check to ensure that applicants do not have convictions for criminal offenses that would disqualify them from the TSA Pre✓® Application Program (please refer to the list of current disqualifiers available at www.tsa.gov/tsa-precheck/eligibility-requirements). These expansion options may include the use of commercial and other publicly available data to conduct identity verification, collection of citizenship/immigration information, and prescreening of applicants.

² For further information, see the Request for Proposal TSA published on FedBizOpps.gov on December 22, 2014, available at https://www.fbo.gov/spg/DHS/TSA/HQTSA/HSTS02-15-R-OIA037/listing.html.

For successfully enrolled and prescreened applicants, TSA will receive via a secure interface certain minimum required data elements (including, but not be limited to, name, date of birth, gender, address, contact information, country of birth, images of identity documents, proof of citizenship/immigration status information, and biometrics) to enable TSA to conduct a STA, make a final eligibility determination for the TSA Pre✓® Application Program, and verify TSA Pre✓® enrolled and approved individuals when they are travelling.

Applicants who are found to be ineligible as a result of prescreening by a contractor shall be notified by the respective contractor of the reason. The notification will include, when relevant, information about the available correction of records process and any alternatives available for identity verification, as well as other available channels for TSA Pre✓® expedited screening.

The TSA-conducted STA for applicants forwarded by the contractors will include checks against government watchlists and databases associated with security and immigration. TSA will make the final determination on eligibility for the TSA Pre✓® Application Program and notify the applicant of the decision. Applicants generally should expect to receive notification from TSA within 2-3 weeks of the submission of their completed applications.

Eligibility for the TSA Pre✓® Application Program is within the sole discretion of TSA, which will notify applicants who are denied eligibility by TSA in writing of the reasons for the denial. If initially deemed ineligible by TSA, applicants will have an opportunity to correct cases of misidentification or inaccurate criminal or immigration records. If advised during the application eligibility review process that the criminal record discloses a disqualifying criminal offense, the applicant must submit in writing within a specified period of his or her intent to correct any information he or she believes to be inaccurate. The applicant must provide a certified revised record, or the appropriate court must forward a certified true copy of the information, prior to TSA approving eligibility of the applicant for the TSA Pre✓® Application Program. With respect to citizenship and/or immigration records, within 60 days after being advised that the citizenship or immigration records indicate that the applicant is ineligible for the TSA Pre✓® Application Program, the applicant must notify TSA in writing of his or her intent to correct any information believed to be inaccurate. TSA will review any information submitted and make a final decision. If neither notification nor a corrected record is received by TSA, the agency may make a final determination to deny eligibility. Individuals who TSA determines are ineligible for the TSA Pre✓® Application Program will be screened at airport security checkpoints pursuant to standard screening protocols.

The TSA Pre✓® Application Program enhances aviation security by permitting TSA to better focus its limited security resources on passengers who are more likely to pose a threat to civil aviation, while also facilitating and improving the commercial aviation travel experience for the public. Travelers who choose not to enroll in this initiative are not subject to any limitations on their travel because of their choice; they will be processed through normal TSA screening before entering the sterile areas of airports. TSA also retains the authority to perform standard or other screening on a random basis on TSA Pre✓® Application Program participants and any other travelers authorized to receive expedited physical screening.

Average Annual Number of Respondents: An estimated 2,074,000 annualized enrollments over a five-year period. This estimate is based on current and projected enrollment with TSA's current program, as well as what TSA anticipates from program expansion to additional contractors performing enrollment and prescreening functions.

Estimated Annual Burden Hours: An estimated 2,742,049 annualized hours based on a five-year projection. TSA estimates 1.32 hours per applicant to complete the enrollment process, which includes providing biographic and biometric information to TSA (via an enrollment center or pre-enrollment options) or to a TSA Pre✓® Application Program contractor, and the burden for any records correction for the applicant, if applicable.

Estimated Annual Cost Burden: $72,290,129 annualized cost burden based on a five-year projection. The TSA fee per respondent for those who apply for the program directly with TSA will remain $85, which covers TSA's program costs and the FBI fee for the criminal history records check. The fee charged by contractors under the expansion of the program may differ, as it may include, but not be limited to, fees for other services that the companies provide separately to their customers.

Dated: December 30, 2014.
Christina A. Walsh,
TSA Paperwork Reduction Act Officer, Office of Information Technology.

[FR Doc. 2014-30874 Filed 1-5-15; 8:45 am]

BILLING CODE 9110-05-P